NATIONAL CREDIT UNION ADMINISTRATION

Agency Information Collection Activities: Proposed Collection; Comment Request; Vendor Registration Form

AGENCY: National Credit Union Administration (NCUA).

ACTION: Notice and request for comment.

SUMMARY: The National Credit Union Administration (NCUA), as part of a continuing effort to reduce paperwork and respondent burden, invites the general public and other Federal agencies to comment on the extension of a currently approved collection, as required by the Paperwork Reduction Act of 1995.

DATES: Written comments should be received on or before May 21, 2019 to be assured consideration.

ADDRESSES: Interested persons are invited to submit written comments on the information collections to the Mackie Malaka, National Credit Union Administration, 1775 Duke Street, Suite 6058, Alexandria, Virginia 22314, or email at PRAComments@NCUA.gov.

FOR FURTHER INFORMATION CONTACT: Requests for additional information should be directed Mackie Malaka at the address above or telephone (703) 548-2704.

SUPPLEMENTARY INFORMATION:

OMB Number: 3133-0185.

Title: NCUA Vendor Registration Form.

Form: NCUA Form 1772.

Abstract: Section 342 of the Dodd-Frank Wall Street Reform and Consumer Protection Act (Act) (Pub. L. 111-203) calls for agencies to promote the inclusion of minority and women-owned firms in their business activities. The Act also requires agencies to annually report to Congress the total amounts paid to minority and women-owned businesses. In order for NCUA to comply with this Congressional mandate, NCUA 1772 is used to collect certain information from its current and potential vendors, so that it can identify businesses that meet the criteria. The vendor information is to be submitted to the agency on a one-time basis and will be used to assign an ownership status to the vendor (i.e., minority-owned business, woman-owned business) per the requirements of the Act. Once an ownership status is assigned to each vendor, NCUA will be able to calculate the total amounts of contracting dollars paid to minority-owned and women-owned businesses.

Type of Review: Extension of a currently approved collection.

Affected Public: Private Sector: Businesses or other for-profits.

Estimated No. of Respondents: 200.

Estimated Annual Frequency: 1.

Estimated Annual Number of Responses: 200.

Estimated Burden Hours per Response: 10 minutes.

Estimated Total Annual Burden Hours: 33.

Request for Comments: Comments submitted in response to this notice will be summarized and included in the request for Office of Management and Budget approval. All comments will become a matter of public record. The public is invited to submit comments concerning: (a) Whether the collection of information is necessary for the proper execution of the function of the agency, including whether the information will have practical utility; (b) the accuracy of the agency's estimate of the burden of the collection of information, including the validity of the methodology and assumptions used; (c) ways to enhance the quality, utility, and clarity of the information to be collected; and (d) ways to minimize the burden of the collection of the information on the respondents, including the use of automated collection techniques or other forms of information technology.

By Gerard Poliquin, Secretary of the Board, the National Credit Union Administration, on March 19, 2019.

Dated: March 19, 2019.
Mackie I. Malaka,
NCUA PRA Clearance Officer.

[FR Doc. 2019-05516 Filed 3-21-19; 8:45 am]

BILLING CODE 7535-01-P